DEPARTMENT OF ENERGY

Federal Energy Regulatory Commission

Combined Notice of Filings #1

Take notice that the Commission received the following exempt wholesale generator filings:

Docket Numbers: EG25-69-000.

Applicants: Painter Energy Storage, LLC.

Description: Painter Energy Storage, LLC submits Notice of Self-Certification of Exempt Wholesale Generator Status.

Filed Date: 12/30/24.

Accession Number: 20241230-5060.

Comment Date: 5 p.m. ET 1/21/25.

Take notice that the Commission received the following Complaints and Compliance filings in EL Dockets:

Docket Numbers: EL25-46-000.

Applicants: Commonwealth of Pennsylvania v. PJM Interconnection, L.L.C.

Description: Complaint of Commonwealth of Pennsylvania v. PJM Interconnection, L.L.C.

Filed Date: 12/30/24.

Accession Number: 20241230-5225.

Comment Date: 5 p.m. ET 1/21/25.

Take notice that the Commission received the following electric rate filings:

Docket Numbers: ER10-1107-011.

Applicants: Pacific Gas and Electric Company.

Description: Triennial Market Power Analysis for Southwest Region of Pacific Gas and Electric Company.

Filed Date: 12/26/24.

Accession Number: 20241226-5393.

Comment Date: 5 p.m. ET 2/24/25.

Docket Numbers: ER10-1585-027; ER10-1594-027; ER10-1597-011; ER10-1617-027; ER10-1624-012; ER10-1628-027; ER10-1632-029; ER12-60-029; ER16-733-018; ER16-1148-018.

Applicants: Tenaska Energía de Mexico, S. de R. L. de C.V., LQA, LLC, Tenaska Power Management, LLC, Tenaska Power Services Co., Texas Electric Marketing, LLC, Tenaska Gateway Partners, Ltd., New Mexico Electric Marketing, LLC, Kiowa Power Partners, LLC, California Electric Marketing, LLC, Alabama Electric Marketing, LLC.

Description: Triennial Market Power Analysis for Southwest Power Pool Inc. Region of Alabama Electric Marketing, LLC et al.

Filed Date: 12/30/24.

Accession Number: 20241230-5148.

Comment Date: 5 p.m. ET 2/28/25.

Docket Numbers: ER10-2794-037.

Applicants: EDF Trading North America, LLC.

Description: Triennial Market Power Analysis for Southwest Power Pool Inc. Region of EDF Trading North America, LLC.

Filed Date: 12/30/24.

Accession Number: 20241230-5067.

Comment Date: 5 p.m. ET 2/28/25.

Docket Numbers: ER10-2818-012; ER10-2806-012; ER23-2750-003; ER23-2751-003; ER23-2752-003.

Applicants: White Rock Wind West, LLC, White Rock Wind East, LLC, Horizon Hill Wind, LLC, TransAlta Energy Marketing (U.S.) Inc., TransAlta Energy Marketing Corporation.

Description: Triennial Market Power Analysis for Southwest Power Pool Inc. Region of TransAlta Energy Marketing Corp., et al.

Filed Date: 12/26/24.

Accession Number: 20241226-5397.

Comment Date: 5 p.m. ET 2/24/25.

Docket Numbers: ER10-2835-012.

Applicants: Google Energy LLC.

Description: Triennial Market Power Analysis for Southwest Power Pool Inc. Region of Google Energy LLC.

Filed Date: 12/27/24.

Accession Number: 20241227-5232.

Comment Date: 5 p.m. ET 2/25/25.

Docket Numbers: ER10-2984-069.

Applicants: Merrill Lynch Commodities, Inc.

Description: Triennial Market Power Analysis for Southwest Power Pool Inc. Region of Merrill Lynch Commodities, Inc.

Filed Date: 12/30/24.

Accession Number: 20241230-5066.

Comment Date: 5 p.m. ET 2/28/25.

Docket Numbers: ER10-3063-004.

Applicants: Green Country Energy, LLC.

Description: Triennial Market Power Analysis for Southwest Power Pool Inc. Region of Green Country Energy, LLC.

Filed Date: 12/27/24.

Accession Number: 20241227-5233.

Comment Date: 5 p.m. ET 2/25/25.

Docket Numbers: ER16-1258-007; ER10-1520-019; ER10-1521-019; ER13-1266-053; ER15-2211-050; ER16-438-010; ER22-1385-013; ER23-674-009; ER23-676-009; ER24-1587-002.

Applicants: AlbertaEx, L.P., BHE Power Watch, LLC, BHE Wind Watch, LLC, BHER Market Operations, LLC., Marshall Wind Energy LLC, MidAmerican Energy Services, LLC, CalEnergy, LLC, Occidental Power Marketing, L.P., Occidental Power Services, Inc., Grande Prairie Wind, LLC.

Description: Triennial Market Power Analysis for Southwest Region of Grande Prairie Wind, LLC et al.

Filed Date: 12/26/24.

Accession Number: 20241226-5395.

Comment Date: 5 p.m. ET 2/24/25.

Docket Numbers: ER25-386-001.

Applicants: Midcontinent Independent System Operator, Inc., Ameren Illinois Company.

Description: Tariff Amendment: Ameren Illinois Company submits tariff filing per 35.17(b): 2024-12-30_SA 4385 and SA 4386_Ameren IL-Mt. Carmel Sub WCA and UCA to be effective 12/31/9998.

Filed Date: 12/30/24.

Accession Number: 20241230-5238.

Comment Date: 5 p.m. ET 1/21/25.

Docket Numbers: ER25-438-001.

Applicants: Midcontinent Independent System Operator, Inc., Ameren Illinois Company.

Description: Tariff Amendment: Ameren Illinois Company submits tariff filing per 35.17(b): 2024-12-30_SA 4393 and SA 4394_Ameren IL-Newton Sub WCA and UCA to be effective 12/31/9998.

Filed Date: 12/30/24.

Accession Number: 20241230-5242.

Comment Date: 5 p.m. ET 1/21/25.

Docket Numbers: ER25-814-000.

Applicants: Evergy Kansas Central, Inc.

Description: Request for Waiver of Tariff Provisions of Evergy Kansas Central, Inc.

Filed Date: 12/26/24.

Accession Number: 20241226-5380.

Comment Date: 5 p.m. ET 1/16/25.

Docket Numbers: ER25-822-000.

Applicants: Big Rivers Electric Corporation.

Description: Request for Limited Waiver and Expedited Action of Big Rivers Electric Corporation.

Filed Date: 12/23/24.

Accession Number: 20241223-5467.

Comment Date: 5 p.m. ET 1/13/25.

Docket Numbers: ER25-823-000.

Applicants: Painter Energy Storage, LLC.

Description: Initial Rate Filing: Baseline new to be effective 1/15/2025.

Filed Date: 12/30/24.

Accession Number: 20241230-5000.

Comment Date: 5 p.m. ET 1/21/25.

Docket Numbers: ER25-825-000.

Applicants: PJM Interconnection, L.L.C.

Description: § 205(d) Rate Filing: Amendment to ISA, Service Agreement No. 6736; Queue No. AE2-226 to be effective 3/1/2025.

Filed Date: 12/30/24.

Accession Number: 20241230-5069.

Comment Date: 5 p.m. ET 1/21/25.

Docket Numbers: ER25-826-000.

Applicants: West Deptford Energy, LLC.

Description: West Deptford Energy, LLC requests a one-time, limited waiver of the 90-day prior notice requirement set forth in Schedule 2 to the PJM Interconnection, L.L.C. Open Access Transmission Tariff.

Filed Date: 12/27/24.

Accession Number: 20241227-5236.

Comment Date: 5 p.m. ET 1/17/25.

Docket Numbers: ER25-827-000.

Applicants: PJM Interconnection, L.L.C.

Description: § 205(d) Rate Filing: Amendment to WMPA, SA No. 7025; Queue No. AG1-193 to be effective 3/4/2025.

Filed Date: 12/30/24.

Accession Number: 20241230-5116.

Comment Date: 5 p.m. ET 1/21/25.

Docket Numbers: ER25-828-000.

Applicants: Ringer Hill Wind, LLC.

Description: Compliance filing: Updated Market Power Analysis for the NE Region & Non-Material Change in Status to be effective 12/31/2024.

Filed Date: 12/30/24.

Accession Number: 20241230-5181.

Comment Date: 5 p.m. ET 1/21/25.

Docket Numbers: ER25-829-000.

Applicants: Smith Creek Hydro, LLC.

Description: Initial Rate Filing: Baseline new to be effective 12/31/2024.

Filed Date: 12/30/24.

Accession Number: 20241230-5209.

Comment Date: 5 p.m. ET 1/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 30, 2024.
Debbie-Anne A. Reese,
Secretary.

[FR Doc. 2024-31653 Filed 1-3-25; 8:45 am]

BILLING CODE 6717-01-P